DEPARTMENT OF COMMERCE

National Oceanic and Atmospheric Administration

50 CFR Parts 622 and 640

[I.D. 020801A]

RIN 0648-AN83

Fisheries of the Caribbean, Gulf of Mexico, and South Atlantic; Amendment to the Fishery Management Plans of the Gulf of Mexico

AGENCY: National Marine Fisheries Service (NMFS), National Oceanic and Atmospheric Administration (NOAA), Commerce.

ACTION: Notice of availability; request for comments.

SUMMARY: NMFS announces that the Gulf of Mexico Fishery Management Council (Gulf Council) has submitted for review, approval, and implementation under the Magnuson-Stevens Fishery Conservation and Management Act (Magnuson-Stevens Act) those measures of its Generic Amendment Addressing the Establishment of the Tortugas Marine Reserves in the Fishery Management Plans of the Gulf of Mexico (Generic Tortugas Amendment) that would amend the Fishery Management Plan for Coastal Migratory Pelagic Resources of the Gulf of Mexico and South Atlantic and the Fishery Management Plan for the Spiny Lobster Fishery of the Gulf of Mexico and South Atlantic. The Generic Tortugas Amendment would establish two marine reserves in the exclusive economic zone in the vicinity of the Dry Tortugas, FL. Within the marine reserves, fishing for any species and anchoring by fishing vessels would be prohibited. The intended effect is to protect and conserve important marine resources. NMFS previously approved those measures of the Generic Tortugas Amendment that amend the Gulf Council’s other fishery management plans (FMPs).

DATES: Written comments must be received on or before September 17, 2001.

ADDRESSES: Written comments on the subject measures of the Generic Tortugas Amendment must be sent to Michael Barnette, Southeast Regional Office, NMFS, 9721 Executive Center Drive N., St. Petersburg, FL 33702. Comments may also be sent via fax to 727-570-5583. Comments will not be accepted if submitted via e-mail or the Internet.

Requests for copies of the Generic Tortugas Amendment, which includes a regulatory impact review and a final supplemental environmental impact statement, should be sent to the Gulf of Mexico Fishery Management Council, 3018 U.S. Highway 301 North, Suite 1000, Tampa, FL 33619-2266; phone: 813-228-2815; fax: 813-225-7015; e-mail: gulf.council&noaa.gov.

FOR FURTHER INFORMATION CONTACT: Michael Barnette, NMFS; phone: 727-570-5305; fax: 727-570-5583; e-mail: Michael.Barnette&noaa.gov.

SUPPLEMENTARY INFORMATION: The Gulf Council previously submitted its Generic Tortugas Amendment to NMFS for Secretarial review, approval, and implementation. A notice of its availability for public comment was published in the Federal Register on March 7, 2001 (66 FR 13692). On June 6, 2001, NMFS approved those management measures in the Generic Tortugas Amendment that amend the following FMPs: Fishery Management Plan for Coral and Coral Reefs of the Gulf of Mexico; Fishery Management Plan for the Red Drum Fishery of the Gulf of Mexico; Fishery Management Plan for the Stone Crab Fishery of the Gulf of Mexico; Fishery Management Plan for the Shrimp Fishery of the Gulf of Mexico; and Fishery Management Plan for the Reef Fish Resources of the Gulf of Mexico.

The amendment’s proposed management measures that would amend the two FMPs prepared jointly (joint FMPs) by the Gulf Council and the South Atlantic Fishery Management Council (South Atlantic Council), namely the Fishery Management Plan for Coastal Migratory Pelagic Resources of the Gulf of Mexico and South Atlantic and the Fishery Management Plan for the Spiny Lobster Fishery of the Gulf of Mexico and South Atlantic, had yet to be adopted by the South Atlantic Council. Therefore, those amendment measures proposed for amending the two joint FMPs were not eligible for Secretarial review and approval under the Magnuson-Stevens Act at the time the Gulf Council first submitted the amendment to NMFS for Secretarial review.

At its meeting of June 18-23, 2001, the South Atlantic Council adopted the amendment’s proposed management measures that would amend the two joint FMPs. Based on this action by the South Atlantic Council, NMFS has determined that the amendment’s measures that would amend the two joint FMPs have been properly submitted for Secretarial review by the Gulf Council and can now be reviewed and, if approved, implemented. Accordingly, NMFS is publishing this notice of availability of these amendment measures for public comment.

To date, NMFS has not published a proposed rule for the Generic Tortugas Amendment. In accordance with the Magnuson-Stevens Act, NMFS is evaluating the proposed rule to determine whether it is consistent with the Generic Tortugas Amendment, the Magnuson-Stevens Act, and other applicable law. If that determination is affirmative, NMFS will publish the proposed rule in the Federal Register for public review and comment. The proposed rule will include amendment measures approved by NMFS on June 6, 2001, for the following FMPs: Fishery Management Plan for Coral and Coral Reefs of the Gulf of Mexico; Fishery Management Plan for the Red Drum Fishery of the Gulf of Mexico; Fishery Management Plan for the Stone Crab Fishery of the Gulf of Mexico; Fishery Management Plan for the Shrimp Fishery of the Gulf of Mexico; and Fishery Management Plan for the Reef Fish Resources of the Gulf of Mexico. The proposed rule will also include those proposed management measures for amending the two joint FMPs that are the subject of this notice. These latter measures would amend the Fishery Management Plan for Coastal Migratory Pelagic Resources of the Gulf of Mexico and South Atlantic and the Fishery Management Plan for the Spiny Lobster Fishery of the Gulf of Mexico and South Atlantic.

Considerable background information on the Generic Tortugas Amendment is contained in the original notice of availability published March 7, 2001 (66 FR 13692) and is not repeated here. Under the Generic Tortugas Amendment, the Gulf Council proposes that the marine reserves be established for a period of at least 10 years, during which the ecological benefits of the reserves will be evaluated. The prohibition on fishing and anchoring of fishing vessels should minimize human disturbances in the Tortugas reserves and help to restore and maintain their ecological integrity, including a full assemblage of fish, coral, and other benthic invertebrates. The reserves will also create a reference or baseline area for studying human impacts on coral reef ecosystems.

Comments received by September 17, 2001, whether specifically directed to those management measures in the Generic Tortugas Amendment that would amend the joint FMPs or to the proposed rule, will be considered by NMFS in its decision to approve, disapprove, or partially approve those measures amending the joint FMPs. Comments received after that date will not be considered by NMFS in this decision. All comments received by NMFS on the Generic Tortugas Amendment (under both the current and previous Secretarial review periods) or the proposed rule during their respective comment periods will be addressed in the preamble of the final rule.

Authority: 16 U.S.C. 1801 et seq.

Dated: July 12, 2001.
Bruce C. Morehead,
Acting Director, Office of Sustainable Fisheries, National Marine Fisheries Service.

[FR Doc. 01-17937 Filed 7-18-01; 8:45 am]

BILLING CODE 3510-22-S